DEPARTMENT OF AGRICULTURE

Forest Service

Superior National Forest; Cook County; Minnesota; Lutsen Mountains Ski Area Expansion Project EIS

AGENCY: Forest Service, USDA.

ACTION: Notice of intent to prepare an environmental impact statement; extension of scoping period.

SUMMARY: The Superior National Forest (SNF) published a notice of intent (NOI) to prepare an environmental impact statement (EIS) on April 15, 2020 for the Lutsen Mountains Ski Area Expansion Project. Lutsen Mountain Corporation (LMC) has submitted a proposal to the SNF to implement select projects at Lutsen Mountains Resort (Lutsen Mountains). All projects are identified within the Lutsen Mountains 2016 Master Development Plan (MDP). The original scoping period was identified to conclude May 15, 2020. The scoping period will be extended to conclude May 28, 2020. The original NOI also indicated that one public open house meeting would be held; however, in response to the coronavirus (COVID-19) pandemic in the United States, and the Center for Disease Control's recommendation for social distancing and avoiding large public gatherings, a public meeting will not be scheduled during the scoping period.

DATES: Comments concerning the scope of the analysis must be received by May 28, 2020. The draft EIS is expected in November 2020, and the final EIS is expected June 2021.

ADDRESSES: Comments may be sent by the following methods:

• Mail: Constance Cummins, Forest Supervisor, c/o Michael Jimenez, Project Leader, Superior National Forest, 8901 Grand Avenue Place, Duluth, MN 55808.

• Email: comments-eastern-superior@usda.gov (please include “Lutsen Mountains Ski Area Expansion Project” in the subject line).

• Online: https://www.fs.usda.gov/project/?project=52440.

FOR FURTHER INFORMATION CONTACT: Michael Jimenez, Project Leader, Superior National Forest, by phone at (218) 626-4383, or by email at michael.jimenez@usda.gov. Additional information can also be found on the project website at https://www.fs.usda.gov/project/?project=52440.

Individuals who use telecommunication devices for the deaf (TDD) may call the Federal Information Relay Service (FIRS) at 1-800-877-8339 between 8 a.m. and 8 p.m., Eastern Time, Monday through Friday.

SUPPLEMENTARY INFORMATION:

Purpose and Need for Action

Lutsen Mountains Corporation (LMC) has applied to the SNF for a special use permit (SUP) under the National Forest Ski Area Permit Act of 1986 that would authorize LMC to construct, operate, and maintain an expansion to a winter sports resort onto approximately 495 acres of National Forest System (NFS) land. Federal regulations at 16 U.S.C. 497b and 36 CFR 251b specifically identify ski areas and associated facilities as permissible uses of NFS land.

The purpose of, and need for, the Forest Service's action is to respond to the proposal from LMC to implement select projects at the Lutsen Mountain Resort on the SNF. The 2004 Land and Resource Management Plan (Forest Plan) identifies Forest-wide Desired Conditions which guide management direction across the SNF. The Proposed Action could help achieve D-REC-3, which states “the [SNF] provides developed sites, facilities, trails, water access sites, and other recreation opportunities within health and safety, resource protection, cost, and maintenance requirements.” (2004 Forest Plan, Chapter 2, Page 39) The Forest Supervisor will use the EIS to inform the decision regarding: (1) Whether to issue a SUP under the National Forest Ski Area Permit Act of 1986; (2) the selection of a preferred alternative; (3) any need to amend the Forest Plan; and (4) what specific terms and conditions should apply if a SUP is issued.

LMC's overall purpose of the proposed project and associated SUP application is to improve the guest experience at Lutsen Mountains, which cannot be accommodated on adjacent private land controlled by LMC. Specifically, LMC has identified a need to:

• Construct additional traditionally cleared alpine ski trails and undeveloped, minimally maintained lift-served terrain to address the current deficit in beginner and expert terrain and to enhance the existing terrain variety and skiing experiences at Lutsen Mountains.

• Improve skier circulation and reliable snow conditions, particularly on Eagle Mountain and Moose Mountain.

• Improve base area, parking, guest services, and operational facilities to meet the ever-increasing expectations of the local, regional, and destination skier markets.

Additional detail on the existing conditions driving the project Purpose and Need as well as the Objectives can be found at: https://www.fs.usda.gov/project/?project=52440.

Proposed Action

The Proposed Action includes the following seven elements:

• Authorization of an approximately 495-acre SUP;

• Construction of seven new chairlifts and one surface lift;

• Development of 324 acres of additional ski terrain, including approximately 175 acres of developed ski trails and 149 acres of gladed terrain;

• Expansion of guest services including two new base facilities, maintenance facilities, and a mountain-top chalet;

• Expansion of ski patrol operations, including construction of an interim ski patrol duty station located in a similar location with the mountain-top chalet;

• Development of approximately 1,260 additional parking spaces, construction of approximately 5 miles of permanent access roads, and construction of approximately 0.9 miles of temporary access roads; and

• Installation of snowmaking coverage on all 175 acres of developed ski trails and construction of two snowmaking reservoirs with a combined capacity of 13 million gallons.

A full description of each element can be found at: https://www.fs.usda.gov/project/?project=52440.

Responsible Official

The Responsible Official is Constance Cummins, Forest Supervisor for the SNF.

Nature of Decision to Be Made

Given the purpose and need, the Responsible Official will review the proposed action, the other alternatives, and the environmental consequences in order to decide the following:

• Whether to approve, approve with modifications, or deny the application for the creation of a SUP and associated expansions.

• Whether to prescribe conditions needed for the protection of the environment on NFS lands.

Permits or Licenses Required

• Forest Service SUP.

• Minnesota Department of Natural Resources Water Appropriations Permit.

• Minnesota Pollution Control Agency Wastewater Permit.

• Other permits or licenses that may be identified through scoping and the EIS analysis process.

Scoping Process

This NOI initiates the scoping process, which guides the development of the environmental impact statement. The Forest Service is soliciting comments from Federal, State, and local agencies and other individuals or organizations that may be interested in, or affected by implementation of the proposed projects. Tribal consultation is ongoing, and will continue.

To be most helpful, comments should be specific to the project area and should identify resources or effects that should be considered by the Forest Service. Submitting timely, specifically written comments during this scoping period or any other official comment period establishes standing for filing objections under 36 CFR parts 218 A and B. Additional information and maps of this proposal can be found at: https://www.fs.usda.gov/project/?project=52440. Details of the project proposal can also be viewed through an online interactive viewer here: https://arcg.is/18mzzu.

It is important that reviewers provide their comments in a timely manner to ensure they are considered in the Agency's preparation of the environmental impact statement. Therefore, comments should be provided prior to the close of the comment period and should clearly articulate the reviewer's concerns and contentions. Comments received in response to this solicitation, including names and addresses of those who comment, will be part of the public record for this proposed action.

Lisa A Northrop,
Acting Associate Deputy Chief, National Forest System.

[FR Doc. 2020-08969 Filed 4-27-20; 8:45 am]

BILLING CODE 3411-15-P